DEPARTMENT OF ENERGY

Federal Energy Regulatory Commission

Notice of Commission Staff Attendance

The Federal Energy Regulatory Commission (Commission) hereby gives notice that members of the Commission's staff may attend the following meeting. Their attendance is part of the Commission's ongoing outreach efforts.

Order No. 1000 Interregional Coordination Meeting

April 12, 2012

8:30 a.m.-3 p.m. (local time).

The above-referenced meeting will be held at: Renaissance Oklahoma City, 10 North Broadway Avenue, Oklahoma City, Oklahoma 73102.

The above-referenced meeting is open to the public.

Further information may be found at www.misoenergy.org or www.spp.org.

The discussions at the meeting described above may address matters at issue in the following proceedings:

Docket No. EL12-24 | Pioneer Transmission LLC.
Docket No. EL12-28 | Xcel Energy.
Docket No. ER12-1357 | Louisville Gas and Electric Company.
Docket No. ER12-715 | Midwest Independent Transmission System Operator, Inc.
Docket No. ER12-480 | Midwest Independent Transmission System Operator, Inc.
Docket No. ER12-309 | Midwest Independent Transmission System Operator, Inc.
Docket No. ER11-1844 | Midwest Independent Transmission System Operator, Inc.
Docket No. EL11-56 | FirstEnergy Service Company.
Docket No. EL11-30 | E.ON Climate & Renewables North America, LLC v. Midwest Independent Transmission System Operator, Inc.
Docket No. OA08-53 | Midwest Independent Transmission System Operator, Inc.
Docket No. ER09-35 | Tallgrass Transmission, LLC.
Docket No. ER09-36 | Prairie Wind Transmission, LLC.
Docket No. ER09-548 | ITC Great Plains, LLC.
Docket No. ER11-4105 | Southwest Power Pool, Inc.
Docket No. EL11-34 | Midwest Independent Transmission System Operator, Inc.
Docket No. ER11-3967 | Southwest Power Pool, Inc.
Docket No. ER11-3967 | Southwest Power Pool, Inc.
Docket No. ER12-1179 | Southwest Power Pool, Inc.
Docket No. OA07-32 | Entergy Services, Inc.
Docket No. EL00-66 | Louisiana Public Service Commission v. Entergy Services, Inc.
Docket No. EL01-88 | Louisiana Public Service Commission v. Entergy Services, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-50 | Louisiana Public Service Commission v. Entergy Services, Inc.
Docket No. EL09-61 | Louisiana Public Service Commission v. Entergy Services, Inc.
Docket No. EL10-55 | Louisiana Public Service Commission v. Entergy Services, Inc.
Docket No. EL10-65 | Louisiana Public Service Commission v. Entergy Services, Inc.
Docket No. EL11-34 | Midwest Independent System Transmission Operator, Inc.
Docket No. ER05-1065 | Entergy Services, Inc.
Docket No. ER07-682 | Entergy Services, Inc.
Docket No. ER07-956 | Entergy Services, Inc.
Docket No. ER08-1056 | Entergy Services, Inc.
Docket No. ER09-833 | Entergy Services, Inc.
Docket No. ER09-1224 | Entergy Services, Inc.
Docket No. ER10-794 | Entergy Services, Inc.
Docket No. ER10-1350 | Entergy Services, Inc.
Docket No. ER10-1676 | Entergy Services, Inc.
Docket No. ER10-2001 | Entergy Arkansas, Inc.
Docket No. ER10-3357 | Entergy Arkansas, Inc.
Docket No. ER11-2131 | Entergy Arkansas, Inc.
Docket No. ER11-2132 | Entergy Gulf States, Louisiana, LLC
Docket No. ER11-2133 | Entergy Gulf States, Louisiana, LLC
Docket No. ER11-2134 | Entergy Mississippi, Inc.
Docket No. ER11-2135 | Entergy New Orleans, Inc.
Docket No. ER11-2136 | Entergy Texas, Inc.
Docket No. ER11-3156 | Entergy Arkansas, Inc.
Docket No. ER11-3657 | Entergy Arkansas, Inc.
Docket No. ER12-480 | Midwest Independent Transmission System Operator, Inc.

For more information, contact Zeny Magos, Office of Energy Markets Regulation, Federal Energy Regulatory Commission at (202) 502-8244 or zeny.magos@ferc.gov.

Dated: April 5, 2012.
Kimberly D. Bose,
Secretary.

[FR Doc. 2012-8817 Filed 4-11-12; 8:45 am]

BILLING CODE 6717-01-P